DEPARTMENT OF COMMERCE

National Oceanic and Atmospheric Administration

[I.D. 031507A]

Endangered Species; File No. 1599

AGENCY: National Marine Fisheries Service (NMFS), National Oceanic and Atmospheric Administration (NOAA), Commerce.

ACTION: Notice; receipt of application.

SUMMARY: Notice is hereby given that Inwater Research Group, Inc (Michael J. Bresette-Responsible Party), 4160 NE Hyline Dr, Jensen Beach, FL, 34957, has applied in due form for a permit to take green (Chelonia mydas), loggerhead (Caretta caretta), hawksbill (Eretmochelys imbricata), and Kemp's ridley (Lepidochelys kempii) sea turtles for purposes of scientific research.

DATES: Written, telefaxed, or e-mail comments must be received on or before April 20, 2007.

ADDRESSES: The application and related documents are available for review upon written request or by appointment in the following office(s):

Permits, Conservation and Education Division, Office of Protected Resources, NMFS, 1315 East-West Highway, Room 13705, Silver Spring, MD 20910; phone (301) 713-2289; fax (301) 427-2521; and

Southeast Region, NMFS, 263 13th Avenue South, St. Petersburg, FL 33701; phone (727) 824-5312; fax (727) 824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1599.

FOR FURTHER INFORMATION CONTACT: Kate Swails or Patrick Opay, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The purpose of the proposed research is to continue long term monitoring of sea turtles foraging in the Key West National Wildlife Refuge and surrounding waters. The applicant would net or hand capture up to 200 green, 200 loggerhead, 50 hawksbill, and 10 Kemp's ridley sea turtles per year. The turtles would be measured, weighed, flipper and Passive Integrated Transponder tagged, blood and tissue sampled, marked with paint, and released. A subset of green turtles would be lavaged and satellite tagged. The permit would be valid for five years.

Dated: March 15, 2007.
P. Michael Payne,
Chief, Permits, Conservation and Education Division, Office of Protected Resources, National Marine Fisheries Service.

[FR Doc. E7-5174 Filed 3-20-07; 8:45 am]

BILLING CODE 3510-22-S